DEPARTMENT OF ENERGY

Federal Energy Regulatory Commission

Combined Notice of Filings #1

Take notice that the Commission received the following electric corporate filings:

Docket Numbers: EC15-217-000.

Applicants: Passadumkeag Windpark, LLC.

Description: Application of Passadumkeag Windpark, LLC for Authorization Under Section 203 of the Federal Power Act and Request for Expedited Action.

Filed Date: 9/29/15.

Accession Number: 20150929-5287.

Comments Due: 5 p.m. ET 10/20/15.

Take notice that the Commission received the following exempt wholesale generator filings:

Docket Numbers: EG15-133-000.

Applicants: Wake Wind Energy LLC.

Description: Notice of Self-Certification of Exempt Wholesale Generator Status of Wake Wind Energy LLC.

Filed Date: 9/30/15.

Accession Number: 20150930-5040.

Comments Due: 5 p.m. ET 10/21/15.

Take notice that the Commission received the following electric rate filings:

Docket Numbers: ER10-2265-008; ER12-21-018; ER11-2211-007; ER11-2209-007; ER11-2210-007; ER11-2207-007; ER11-2206-007; ER13-1150-005; ER13-1151-005; ER11-2855-018; ER14-1818-008; ER10-2260-005; ER10-2261-005; ER10-2339-010; ER10-2338-010; ER10-2340-010; ER11-3727-013; ER10-2262-004; ER11-2062-017; ER10-1291-018; ER11-2508-016; ER11-4307-017; ER12-1711-013; ER12-261-016; ER10-2264-005; ER10-1581-015; ER10-2354-007; ER11-2107-008; ER11-2108-008; ER10-2888-017; ER13-1803-009; ER13-1790-009; ER13-1746-010; ER12-1525-013; ER10-2266-004; ER12-2398-012; ER11-3459-012; ER11-4308-017; ER11-2805-016; ER11-2856-018; ER13-2107-008; ER13-2020-008; ER13-2050-008; ER11-2857-018; ER10-2359-006; ER10-2381-006; ER10-2575-006.

Applicants: NRG Power Marketing LLC, Agua Caliente Solar, LLC, Alta Wind I, LLC, Alta Wind II, LLC, Alta Wind III, LLC, Alta Wind IV, LLC, Alta Wind V, LLC, Alta Wind X, LLC, Alta Wind XI, LLC, Avenal Park LLC, Boston Energy Trading and Marketing LLC, Cabrillo Power I LLC, Cabrillo Power II LLC, CP Power Sales Seventeen, L.L.C., CP Power Sales Nineteen, L.L.C., CP Power Sales Twenty, L.L.C., El Segundo Energy Center LLC, El Segundo Power, LLC, Energy Plus Holdings LLC, GenConn Energy LLC, GenOn Energy Management, LLC, Green Mountain Energy Company, High Plains Ranch II, LLC, Independence Energy Group LLC, Long Beach Generation LLC, Long Beach Peakers LLC, Midway-Sunset Cogeneration Company, North Community Turbines LLC, North Wind Turbines LLC, Norwalk Power LLC, NRG California South LP, NRG Delta LLC, NRG Marsh Landing LLC, NRG Solar Alpine LLC, NRG Solar Blythe LLC, NRG Solar Borrego I LLC, NRG Solar Roadrunner LLC, Reliant Energy Northeast LLC, RRI Energy Services, LLC, Sand Drag LLC, Solar Partners I, LLC, Solar Partners II, LLC, Solar Partners VIII, LLC, Sun City Project LLC, Sunrise Power Company, LLC, Walnut Creek Energy, LLC, Watson Cogeneration Company.

Description: Supplement to August 7, 2015 Notice of Change in Status of the NRG CAISO MBR Sellers.

Filed Date: 9/30/15.

Accession Number: 20150930-5130.

Comments Due: 5 p.m. ET 10/21/15.

Docket Numbers: ER10-2507-006.

Applicants: Westar Energy, Inc.

Description: Notice of Non-Material Change in Status of Westar Energy, Inc.

Filed Date: 9/29/15.

Accession Number: 20150929-5286.

Comments Due: 5 p.m. ET 10/20/15.

Docket Numbers: ER15-572-003.

Applicants: New York Transco, LLC.

Description: Motion of the New York Transco, LLC for Temporary and Limited Waiver of the Formula Rate Implementation Protocols.

Filed Date: 9/28/15.

Accession Number: 20150928-5348.

Comments Due: 5 p.m. ET 10/19/15.

Docket Numbers: ER15-2477-000.

Applicants: Golden Hills Wind, LLC.

Description: Amendment to August 18, 2015 Golden Hills Wind, LLC tariff filing.

Filed Date: 9/29/15.

Accession Number: 20150929-5281.

Comments Due: 5 p.m. ET 10/20/15.

Docket Numbers: ER15-2743-000.

Applicants: PacifiCorp.

Description: Notice of Termination of BPA AC Intertie Transmission Agreement RS 370 of PacifiCorp.

Filed Date: 9/29/15.

Accession Number: 20150929-5260.

Comments Due: 5 p.m. ET 10/20/15.

Docket Numbers: ER15-2744-000.

Applicants: Entergy Gulf States Louisiana, L.L.C.

Description: Section 205(d) Rate Filing: EGSL-SRMPA 3rd Extension of Interim Agreement to be effective 10/1/2015.

Filed Date: 9/30/15.

Accession Number: 20150930-5049.

Comments Due: 5 p.m. ET 10/21/15.

Docket Numbers: ER15-2745-000.

Applicants: PJM Interconnection, L.L.C.

Description: Tariff Cancellation: Notice of Cancellation of Service Agreement No. 4041; Queue W3-160 (WMPA) to be effective 9/23/2015.

Filed Date: 9/30/15.

Accession Number: 20150930-5145.

Comments Due: 5 p.m. ET 10/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2015.
Nathaniel J. Davis, Sr.,
Deputy Secretary.

[FR Doc. 2015-25513 Filed 10-6-15; 8:45 am]

BILLING CODE 6717-01-P